DEPARTMENT OF LABOR

Employment and Training Administration

Notice of Availability of Funds and Solicitation for Grant Applications for H-1B Ready to Work Partnership Grants

AGENCY: Employment and Training Administration, Labor.

ACTION: Notice of Solicitation for Grant Applications (SGA).

Funding Opportunity Number: SGA/DFA PY-13-07

SUMMARY: The Employment and Training Administration (ETA), U.S. Department of Labor (the Department), announces the availability of approximately $150 million in funds for the H-1B Ready to Work Partnership (Ready to Work) grant program. The Department expects to fund approximately 20-30 grants with individual grant amounts ranging from $3 million to $10 million. This grant program is designed to provide long-term unemployed workers with individualized counseling, training and supportive and specialized services leading to rapid employment in skilled occupations and industries for which employers use H-1B visas to hire foreign workers. A small percentage of other unemployed and/or incumbent workers may also be served through this program. These grants are financed by a user fee paid by employers to bring foreign workers into the United States under the H-1B nonimmigrant visa program. This program was authorized under Section 414(c) of the American Competitiveness and Workforce Improvement Act of 1998 (ACWIA), as amended (29 U.S.C. 2916a). Grant awards will be made only to the extent that funds are available.

Grants will be awarded to the lead applicant of a public and private partnership of entities that includes: the workforce investment system; training providers, such as community colleges and community-based and faith-based organizations; and, business and business-related groups, trade associations, nonprofit business or industry, organizations functioning as workforce intermediaries for the expressed purpose of serving the needs of businesses, individual businesses, or consortia of businesses.

The complete SGA and any subsequent SGA amendments in connection with this solicitation are described in further detail on ETA's Web site at http://www.doleta.gov/grants/ or on http://www.grants.gov. The Web sites provide application information, eligibility requirements, review and selection procedures, and other program requirements governing this solicitation.

DATES: The closing date for receipt of applications under this announcement is June 19, 2014. Applications must be received no later than 4:00:00 p.m. Eastern Time.

FOR FURTHER INFORMATION CONTACT: Kia Mason, 200 Constitution Avenue NW., Room N-4716, Washington, DC 20210; Telephone: 202-693-2606.

Signed: February 20, 2014 in Washington, DC.
Eric D. Luetkenhaus,
Grant Officer, Employment and Training Administration.

[FR Doc. 2014-04037 Filed 2-25-14; 8:45 am]

BILLING CODE 4510-FN-P